DEPARTMENT OF THE TREASURY

District of Columbia's Retired Superior Court and Court of Appeals Justices; New Payroll Office

SUMMARY: The Department of Treasury's Office of DC Pensions (ODCP) is issuing this notice to advise the public of a new payroll office to serve the District of Columbia's retired Superior Court and Court of Appeals justices. The payroll services provided for these justices will change from the District of Columbia's Office of Pay and Retirement Services (OPRS) to the Department of the Treasury's Bureau of Public Debt (BPD), effective December 1, 2002.

ADDRESSES: Pensions Operations Analyst, Office of DC Pensions, P.O. Box 14307, Washington DC 20044-4307, E-Mail: STAR@do.treas.gov; or DCPension Payroll@bpd.treas.gov at the Bureau of the Public Dept, Parkersburg, WV.

FOR FURTHER INFORMATION CONTACT: Emily Moltz, 202-622-2316.

SUPPLEMENTARY INFORMATION: In compliance with the Balanced Budget Act of 1997, Pub. L. 105-33, the Department of the Treasury's Bureau of Public Debt (BPD) located in Parkersburg, WV, will begin using a new retirement system called STAR (System to Administer Retirement) to pay the retirements for the District of Columbia's retired Superior Court and Court of Appeals justices.

The current system run by OPRS will produce its last payment to the justices on December 2, 2002 and BPD will produce the first payment to the justices using STAR on January 2, 2003. The STAR Payroll Office Number is 99004863. Any outstanding garnishments in place today, such as tax levies, child support, alimony, or bankruptcy, will also be deducted from the annuitant's payment in the new system. Requests to perform garnishments should be directed to STAR DC Pension Payroll Office, Bureau of Public Debt PO Box 1328 Parkersburg, WV 26101-1328 and marked time sensitive.

If you have any questions or concerns regarding this transition, please contact the Pension Operations Analyst, at STAR@do.treas.gov.

Kay Clarey,
Director, Information System, Office of DC Pensions.

[FR Doc. 03-1042 Filed 1-17-03; 8:45 am]

BILLING CODE 4810-25-M